DEPARTMENT OF COMMERCE

National Oceanic and Atmospheric Administration

Request for Information on NOAA Actions To Advance the Goals and Recommendations in the Report on Conserving and Restoring America The Beautiful, Including Conserving At Least 30 Percent of U.S. Lands and Waters By 2030

AGENCY: National Oceanic and Atmospheric Administration (NOAA), Department of Commerce (DOC).

ACTION: Notice; request for information.

SUMMARY: On May 6, 2021, the U.S. Departments of the Interior, Agriculture, Commerce, and the White House Council on Environmental Quality released a preliminary report on Conserving and Restoring America the Beautiful (Report). The Report recommends a decade-long national initiative to advance locally led conservation and restoration in public, private, and tribal lands and waters toward addressing three threats: Disappearance of nature, climate change, and inequitable access to the outdoors. Guided by eight core principles and six focus areas for early action and progress in the Report, NOAA is seeking public input on how NOAA should, using its existing authorities and associated measures, conserve and restore America's ocean, coasts, and Great Lakes.

DATES: Interested persons are invited to submit comments on or before December 28, 2021.

NOAA will host virtual public listening sessions at the following dates and times:

• Monday, November 8, 2021, 2:00-4:00 p.m. Eastern Time

• Tuesday, November 16, 2021, 4:00-6:00 p.m. Eastern Time

NOAA may end a meeting before the time noted above if all those participating have completed their oral comments.

ADDRESSES: You may submit comments by any of the following methods:

Federal eRulemaking Portal: Responses can be submitted electronically to the Federal e-Rulemaking Portal at https://www.regulations.gov/docket/NOAA-HQ-2021-0109. Click the “Comment Now!” button, complete the required fields, and enter or attach your comments.

Public Listening Sessions: Provide oral comments during virtual public listening sessions, as described under DATES. Registration details and additional information about how to participate in these public listening sessions is available at www.noaa.gov/america-the-beautiful.

Instructions: Response to this request for information (RFI) is voluntary. Attachments will be accepted in plain text, Microsoft Word, or Adobe PDF formats only. Each individual or institution is requested to submit only one response. NOAA requests that all letter writing campaigns submit one letter with an attachment that includes signatures to your letter, which will aid in review. The number of signatures will be taken into account in the summary of comments. DOC may post responses to this RFI, without change, on a Federal website. NOAA, therefore, requests that no business proprietary information, copyrighted information, or personally identifiable information be submitted in response to this RFI. Please note that the U.S. Government will not pay for response preparation, or for the use of any information contained in the response.

FOR FURTHER INFORMATION CONTACT: Visit www.noaa.gov/america-the-beautiful. For technical questions about this notice, email americathebeautiful@noaa.gov (please do not submit public comments directly to this email address).

SUPPLEMENTARY INFORMATION: On January 27, 2021, the White House issued Executive Order 14008 on Tackling the Climate Crisis at Home and Abroad (Executive Order). 86 FR 7619 Section 216(a) of the Executive Order directs the Secretary of the Interior, in consultation with the Secretary of Agriculture, the Secretary of Commerce, the Chair of the Council on Environmental Quality, and the heads of other relevant agencies, to submit a report to the National Climate Task Force within 90 days of the date of the order recommending steps that the United States should take, working with state, local, tribal, and territorial governments, agricultural and forest landowners, fishermen, and other key stakeholders, to achieve the goal of conserving at least 30 percent of U.S. lands and waters by 2030.

In accordance with Section 216(a) of the Executive Order, on May 6, 2021, the U.S. Departments of the Interior, Agriculture, Commerce, and the White House Council on Environmental Quality released a preliminary report on Conserving and Restoring America the Beautiful: www.doi.gov/sites/doi.gov/files/report-conserving-and-restoring-america-the-beautiful-2021.pdf. The Report calls for a decade-long national initiative to advance locally led conservation and restoration in public, private, and tribal lands and waters. The Report recommends eight core principles:

• Principle 1: Pursue a Collaborative and Inclusive Approach to Conservation.

• Principle 2: Conserve America's Lands and Waters for the Benefit of All People.

• Principle 3: Support Locally Led and Locally Designed Conservation Efforts.

• Principle 4: Honor Tribal Sovereignty and Support the Priorities of Tribal Nations.

• Principle 5: Pursue Conservation and Restoration Approaches that Create Jobs and Support Healthy Communities.

• Principle 6: Honor Private Property Rights and Support the Voluntary Stewardship Efforts of Private Landowners and Fishers.

• Principle 7: Use Science as a Guide.

• Principle 8: Build on Existing Tools and Strategies with an Emphasis on Flexibility and Adaptive Approaches.

The Report also recommends six areas of early focus and progress:

• Create More Parks and Safe Outdoor Opportunities in Nature-Deprived Communities.

• Support Tribally Led Conservation and Restoration Priorities.

• Expand Collaborative Conservation of Fish and Wildlife Habitats and Corridors.

• Increase Access for Outdoor Recreation.

• Incentivize and Reward the Voluntary Conservation Efforts of Fishers, Ranchers, Farmers, and Forest Owners.

• Create Jobs by Investing in Restoration and Resilience.

As directed by Section 216(a) of the Executive Order, the Report proposes guidelines for determining whether lands and waters qualify for conservation, and establishes mechanisms to measure and monitor progress toward the 30-percent goal. This will be accomplished through two complementary steps described in the Report. The first is the development of an American Conservation and Stewardship Atlas, which will provide a baseline assessment of the amount and types of lands and waters that are currently being managed for conservation and restoration purposes, as well as track progress of conservation and restoration efforts going forward. The Atlas will be developed by an interagency working group of agency experts, co-chaired by NOAA, with input from the public, states, tribal nations, scientists, and a wide range of stakeholders. The second step is the publication of annual America the Beautiful updates on Federal efforts to support locally led conservation and restoration efforts, with the first update due by the end of 2021.

Section 216(a) of the Executive Order further directs the Secretary of the Interior, the Secretary of Agriculture, the Secretary of Commerce through the NOAA Administrator, and the Chair of the Council on Environmental Quality to solicit input from state, local, tribal, and territorial officials, agricultural and forest landowners, fishermen, and other key stakeholders in identifying strategies that will encourage broad participation in the goal of conserving at least 30 percent of U.S. lands and waters by 2030. NOAA has significant experience in the conservation and restoration of U.S. lands and waters. Accordingly, NOAA has existing authorities, as well as associated regulations, conservation and management plans, and similar measures. These include the National Marine Sanctuaries Act, Coastal Zone Management Act, Magnuson-Stevens Fishery Conservation and Management Act, Marine Mammal Protection Act, Endangered Species Act, Coral Reef Conservation Act, and others. NOAA is seeking public input on the use of NOAA's existing authorities and associated measures to advance the goals and recommendations in the Report, including the eight core principles and six areas of early focus and progress. As such, NOAA invites the public to provide input to help guide NOAA's conservation and restoration of ocean, coastal, and Great Lakes resources; NOAA's engagement on the development of the American Conservation and Stewardship Atlas; and NOAA's efforts to track its progress toward advancing the goals and recommendations in the Report for inclusion in the annual updates. Specifically, NOAA is seeking public input on the following:

• Which of NOAA's existing authorities and associated measures, as listed above, are most appropriate for addressing the threats identified in the Report, which are the disappearance of nature, climate change, and inequitable access to the outdoors.

• Whether NOAA should better apply its existing authorities and associated measures, as listed above, to advance the goals and recommendations in the Report.

• What criteria NOAA should consider in working with other agencies to identify existing or potential new “conserved” or “restored” areas for the purpose of advancing the goals and recommendations in the Report.

• What additional scientific information, Indigenous Knowledge, or other expertise NOAA should consider in order to advance the goals and recommendations in the Report.

• How NOAA should consider tracking its actions and measuring its progress, including with partners, toward advancing the goals and recommendations in the Report.

• What actions NOAA should consider taking to support non-Federal entities, including tribal, state, territorial, and local governments and non-governmental organizations and other private entities, to advance their efforts to conserve and restore U.S. lands and waters.

• What actions NOAA should consider taking to facilitate broad participation in the America the Beautiful initiative.

• What additional information NOAA should consider as relevant to its role in implementing the America the Beautiful initiative.

Respondents are encouraged to focus their comments on actions that NOAA is authorized to take under its existing authorities and associated measures, as listed above. More information on NOAA's authorities, the eight core principles and six areas of early focus and progress in the Report, and other relevant resources is available at NOAA's website for Conserving and Restoring America the Beautiful: https://noaa.gov/america-the-beautiful.

Richard W. Spinrad,
Under Secretary of Commerce for Oceans and Atmosphere, and Administrator, National Oceanic and Atmospheric Administration.

[FR Doc. 2021-23590 Filed 10-28-21; 8:45 am]

BILLING CODE 3510-JE-P